ENVIRONMENTAL PROTECTION AGENCY

[EPA-HQ-OECA-2012-0517; FRL—9991-90-OMS]

Information Collection Request Submitted to OMB for Review and Approval; Comment Request; Emission Guidelines and Compliance Times for Small Municipal Waste Combustion Units Constructed on or Before August 30, 1999 (Renewal)

AGENCY: Environmental Protection Agency (EPA).

ACTION: Notice.

SUMMARY: The Environmental Protection Agency (EPA) has submitted an information collection request (ICR), Emission Guidelines and Compliance Times for Small Municipal Waste Combustion Units Constructed on or Before August 30, 1999 (EPA ICR No. 1901.07, OMB Control No. 2060-0424), to the Office of Management and Budget (OMB) for review and approval in accordance with the Paperwork Reduction Act. This is a proposed extension of the ICR, which is currently approved through April 30, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before May 29, 2019.

ADDRESSES: Submit your comments, referencing Docket ID Number EPA-HQ-OECA-2012-0517, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The Emission Guidelines and Compliance Times for Small Municipal Waste Combustion Units Constructed on or Before August 30, 1999 were originally promulgated in December 1995, but were vacated by the Federal Court in March 1997. Subsequently, the Emission Guidelines were re-proposed on August 30, 1999, and promulgated on December 6, 2000. The Emission Guidelines regulate organics (dioxin/furans), metals (cadmium, lead, mercury), particulate matter, and acid gases (hydrogen chloride, sulfur dioxide, and nitrogen oxides) for small Municipal Waste Combustion (MWC) units. Small MWC units are MWC units with capacities to combust greater than 35 tons per day (tpd) and less than 250 tons per day (tpd) of municipal solid waste. The Emission Guidelines contain monitoring, reporting, and recordkeeping requirements that are to be included in state plans. This Information Collection Request (ICR) identifies the burden for States and U.S. territories to develop and implement State plans, and the burden for small MWCs imposed by these State plans. This information is being collected to assure compliance with 40 CFR part 60, subpart BBBB.

In general, all Emission Guidelines require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to Emission Guidelines.

Form Numbers: None.

Respondents/affected entities: Small municipal waste combustors (MWCs).

Respondent's obligation to respond: Mandatory (40 CFR part 60, subpart BBBB).

Estimated number of respondents: 23 (total).

Frequency of response: Initially, annually, and semiannually.

Total estimated burden: 102,000 hours (per year). Burden is defined at 5 CFR 1320.3(b).

Total estimated cost: $11,500,000 (per year), which includes $1,040,000 in annualized capital/startup and/or operation & maintenance costs.

Changes in the Estimates: There is no change in the total labor hours in this ICR compared to the previous ICR.

Courtney Kerwin,
Director, Regulatory Support Division.

[FR Doc. 2019-08510 Filed 4-26-19; 8:45 am]

BILLING CODE 6560-50-P